DEPARTMENT OF HOMELAND SECURITY

Coast Guard

[USCG-2011-0052]

Eastern Great Lakes Area Maritime Security Committee; Vacancies

AGENCY: Coast Guard, DHS.

ACTION: Solicitation for membership.

SUMMARY: This notice solicits applications for membership in the Area Maritime Security Committee (AMSC), Eastern Great Lakes, and its five regional sub-committees: Northeast Ohio Region, Northwestern Pennsylvania Region, Western New York Region, Lake Ontario Region and St. Lawrence Region.

DATES: Requests for membership should reach the U.S. Coast Guard Captain of the Port, Buffalo, on March 17, 2011.

ADDRESSES: Submit applications to the Captain of the Port Buffalo, Attention Regional Executive Coordinator, 1 Fuhrmann Boulevard, Buffalo, NY 14203-3189.

FOR FURTHER INFORMATION CONTACT: For questions about submitting an application, or about the AMSC in general, contact Mr. Timothy Balunis, Planning Department, U.S. Coast Guard Sector Buffalo, 1 Fuhrmann Boulevard, Buffalo, NY 14203-3189; 716-843-9559. For questions about a particular regional sub-committee contact: The Northeast Ohio Region Executive Coordinator, Mr. Peter Killmer, at 216-937-0136; the Northwestern Pennsylvania Region Executive Coordinator, Mr. Joseph Fetscher, at 216-937-0126; the Western New York Region Executive Coordinator, Mr. Timothy Balunis, at 716-843-9559; the Lake Ontario Region Executive Coordinator, Mr. Ralph Kring, at 315-343-1217; and the St. Lawrence Region Executive Coordinator, Mr. Ralph Kring, at 315-343-1217.

SUPPLEMENTARY INFORMATION:

Authority

Section 102 of the Maritime Transportation Security Act (MTSA) of 2002 (Pub. L. 107-295) added section 70112 to Title 46 of U.S. Code, and authorized the Secretary of the Department in which the Coast Guard is operating to establish AMSCs for any port area of the United States. (See 33 U.S.C. 1226; 46 U.S.C. 70112(a)(2); 33 CFR 1.05-1, 6.01; Department of Homeland Security Delegation No. 0170.1). The MTSA includes a provision exempting these AMSCs from the Federal Advisory Committee Act (FACA), 5 U.S.C. App. 2 (Pub. L. 92-436). The AMSCs shall assist the Captain of the Port in the development, review, update, and exercising of the AMS Plan for their area of responsibility. Such matters may include, but are not limited to: Identifying critical port infrastructure and operations; identifying risks (threats, vulnerabilities, and consequences); determining mitigation strategies and implementation methods; developing and describing the process to continually evaluate overall port security by considering consequences and vulnerabilities, how they may change over time, and what additional mitigation strategies can be applied; and providing advice to, and assisting the Captain of the Port in, developing the AMS Plan.

AMSC Composition

The composition of an AMSC, to include the AMSC Eastern Great Lakes and its sub-committees, is controlled by 33 CFR 103.305. Accordingly, members may be selected from the Federal, Territorial, or Tribal government; the State government and political subdivisions of the State; local public safety, crisis management, and emergency response agencies; law enforcement and security organizations; maritime industry, including labor; other port stakeholders having a special competence in maritime security; and port stakeholders affected by security practices and policies. Also, members must have at least 5 years of experience related to maritime or port security operations.

AMSC Eastern Great Lakes Vacancies

Currently, there are multiple vacancies on the Eastern Great Lakes AMSC. Vacancies for each of the five regional subcommittees are as follows:

(1) Northeast Ohio Region (2 members): Executive Board member representing local MTSA regulated, 33 CFR part 105, facilities of Northeast Ohio. Also, an Executive Board member representing the maritime (on-water) law enforcement community of Northeast Ohio (e.g. State of Ohio Department of Natural Resources, County Sheriff's Department, municipal maritime police, etc.);

(2) Northwestern Pennsylvania Region: No openings;

(3) Western New York Region (1 member): Executive Board member representing local MTSA regulated, 33 CFR part 104, vessels of Western New York;

(4) Lake Ontario Region: No openings; and

(5) St. Lawrence Region (1 member): Executive Board member to serve as Chairperson of the subcommittee and concurrently as member of the Eastern Great Lakes AMSC when convened by the FMSC.

Applying for AMSC Membership

Those seeking membership are not required to submit formal applications. Because we have an obligation to ensure that a specific number of members have the requisite maritime security experience, however, we encourage the submission of resumes that highlight experience in the maritime and security industries.

Applicants may be required to pass an appropriate security background check before appointment to the committee or one of its sub-committees. The term of office for each vacancy is 5 years. However, a member may serve one additional term of office. Members will not receive any salary or other compensation for their service on the AMSC. Applicants must register and remain active as Coast Guard HOMEPORT users if appointed.

In support of the policy of the USCG on gender and ethnic diversity, we encourage qualified men and women of all racial and ethnic groups to apply.

Dated: January 31, 2011.
R.S. Burchell,
Captain, U.S. Coast Guard, Captain of the Port Buffalo.

[FR Doc. 2011-3324 Filed 2-14-11; 8:45 am]

BILLING CODE 9110-04-P